DEPARTMENT OF TRANSPORTATION

Coast Guard

33 CFR Part 165

[COTP Los Angeles-Long Beach 02-002]

RIN 2115-AA97

Security Zones; San Pedro Bay, California

AGENCY: Coast Guard, DOT.

ACTION: Temporary final rule.

SUMMARY: The Coast Guard has established moving and fixed security zones around any liquefied hazardous gas (LHG) tank vessel while the vessel is anchored, moored, or underway within the Los Angeles-Long Beach, California, port area. These security zones will take effect upon the entry of any LHG vessel into the waters within three nautical miles outside of the Federal breakwaters encompassing San Pedro Bay and will remain in effect until the LHG vessel departs the three nautical mile limit. These security zones are needed for national security reasons to protect the LHG vessel, the public, and the surrounding area from potential subversive acts, accidents, or other events of a similar nature. Entry into these zones is prohibited unless specifically authorized by the Captain of the Port Los Angeles-Long Beach, or his designated representative.

DATES: The rule is effective from 7 p.m. PST on January 14, 2002 to 11:59 p.m. PDT on June 15, 2002.

ADDRESSES: Documents indicated in this preamble as being available in the docket are part of docket COTP Los Angeles-Long Beach 02-002 and are available for inspection or copying at Coast Guard Marine Safety Office Los Angeles-Long Beach, 1001 South Seaside Avenue, Building 20, San Pedro, California, 90731, between 8 a.m. and 4 p.m., Monday through Friday, except Federal holidays.

FOR FURTHER INFORMATION CONTACT: Lieutenant Junior Grade Rob Griffiths, Waterways Management, at (310) 732-2020.

SUPPLEMENTARY INFORMATION:

Regulatory Information

We did not publish a notice of proposed rulemaking (NPRM) for this regulation. Under 5 U.S.C. 553(b)(B), the Coast Guard finds that good cause exists for not publishing an NPRM. Publishing an NPRM, which would incorporate a comment period before a final rule was issued, would be contrary to the public interest since immediate action is needed to protect the public, ports, and waterways of the United States. On September 11, 2001, two commercial aircraft were hijacked from Logan Airport in Boston, Massachusetts and flown into the World Trade Center in New York, New York inflicting catastrophic human casualties and property damage. A similar attack was conducted on the Pentagon on the same day. National security and intelligence officials warn that future terrorist attacks against civilian targets may be anticipated. Due to the potentially explosive nature of the LHG vessel cargo, which includes liquefied petroleum gas (LPG) and liquefied natural gas (LNG), this rulemaking is urgently required to prevent possible terrorist strikes against an LHG vessel in the ports of Los Angeles-Long Beach, California. The delay inherent in the NPRM process is contrary to the public interest insofar as it would render a LHG vessel vulnerable to subversive activity, sabotage or terrorist attack, and immediate action is necessary to protect persons, vessels and others in the maritime community from the hazards associated with the transport and loading operations of this dangerous cargo. For the same reasons, under 5 U.S.C. 553(d)(3), the Coast Guard finds that good cause exists for making this rule effective less than 30 days after publication in the Federal Register.

Background and Purpose

Based on the September 11, 2001, terrorist attacks on the World Trade Center in New York and the Pentagon in Arlington, Virginia, there is an increased risk that further subversive activity may be launched against the United States. In response to these terrorist acts, to prevent similar occurrences, and to protect the ports of Los Angeles-Long Beach, the Coast Guard has established these security zones around any LHG tank vessel while the vessel is anchored, moored, or underway within the Los Angeles-Long Beach, California, port area. Title 33 CFR 165.1151 currently provides for safety zones for LHG tank vessels while at anchor in designated anchorage areas in San Pedro Bay, while transiting San Pedro Bay, and while LHG tank vessels are moored at any berth within the Los Angeles or Long Beach port area. However, in light of the current terrorist threats to national security, these zones are insufficient to protect LHG tank vessels while anchored in San Pedro Bay, or while a LHG vessel is transiting or moored in the port of Los Angeles or Long Beach. This rulemaking will temporarily suspend 33 CFR 165.1151 and will temporarily add the security zones provided for hereunder as 33 CFR 165.T11-062. These security zones are needed to protect LHG tank vessels, their crews, and the public, from harmful or subversive acts, accidents or other causes of a similar nature.

LHG tank vessels periodically transit and moor in the Los Angeles-Long Beach port areas to load butane, propane, and similar gas products. These security zones will take effect upon the entry of any LHG vessel into the waters within three nautical miles outside of the Federal breakwaters encompassing San Pedro Bay and will remain in effect until the LHG vessel departs the three nautical mile limit. The following areas have been established as security zones:

(1) The waters within a 500 yard radius around a LHG tank vessel, while the vessel is anchored at a designated anchorage area either inside the Federal breakwaters bounding San Pedro Bay, or is anchored outside the breakwaters at designated anchorages within three nautical miles of the breakwaters;

(2) The waters within 500 yards of a LHG tank vessel, while the vessel is moored at any berth within the Los Angeles or Long Beach, California, port area, inside the Federal breakwaters bounding San Pedro Bay;

(3) The waters 1000 yards ahead of and within 500 yards of all other sides of a LHG tank vessel, while the vessel is underway on the waters inside the Federal breakwaters, or on the waters extending three nautical miles outward from the Federal breakwaters.

These security zones are necessary to prevent damage or injury to any vessel or waterfront facility, and to safeguard ports, harbors, or waters of the United States in the ports of Los Angeles-Long Beach, California. Entry into these moving or fixed security zones is prohibited unless authorized by the Captain of the Port Los Angeles-Long Beach, or his designated representative.

These security zones are established pursuant to the authority of The Magnuson Act regulations promulgated by the President under 50 U.S.C. 191, including Subparts 6.01 and 6.04 of Part 6 of Title 33 of the Code of Federal Regulations. Vessels or persons violating this section are subject to the penalties set forth in 50 U.S.C. 192: Seizure and forfeiture of the vessel, a monetary penalty of not more than $10,000, and imprisonment for not more than 10 years.

This rule will be enforced by the Captain of the Port Los Angeles-Long Beach, who may also enlist the aid and cooperation of any Federal, State, county, municipal, and private agencies to assist in the enforcement of this rule.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979) because these zones will encompass a small portion of the waterway and will be in place for only a few days while LHG tank vessels conduct loading operations, which does not occur very frequently. During calendar year 2001, the safety zones established by section 165.1151 (formerly 165.1101, redesignated June 25, 2001, 66 FR 33637, 33642) were triggered only three times.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

For the same reasons stated in the Regulatory Evaluation section above, the Coast Guard certifies under 5 U.S.C. 605(b) that this rule will not have a significant economic impact on a substantial number of small entities.

Assistance for Small Entities

Under section 213(a) of the Small Business Regulatory Enforcement Fairness Act of 1996 (Pub. L. 104-121), we offer to assist small entities in understanding the rule so that they could better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for Federalism under Executive Order 13132, Federalism, if it has a substantial direct effect on State or local governments and would either preempt State law or impose a substantial direct cost of compliance on them. We have analyzed this rule under that Order and have determined that it does not have implications for Federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34), of Commandant Instruction M16475.1D, it is categorically excluded from further environmental documentation. A “Categorical Exclusion Determination” is available in the docket where indicated under ADDRESSES.

List of Subjects in 33 CFR Part 165

Harbors, Marine safety, Navigation (water), Reports and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From January 14, 2002 through June 15, 2002, suspend § 165.1151.

3. From January 14, 2002 through June 15, 2002, add new temporary § 165.T11-062 to read as follows:

§ 165.T11-062 Security Zones: San Pedro Bay, California.

(a) Location. The following areas are established as security zones during the specified conditions:

(1) The waters within a 500-yard radius around a liquefied hazardous gas (LHG) tank vessel, while the vessel is anchored at a designated anchorage area either inside the Federal breakwaters bounding San Pedro Bay, or is anchored outside the breakwaters at designated anchorages within three nautical miles of the breakwaters;

(2) The waters within 500 yards of a LHG tank vessel, while the vessel is moored at any berth within the Los Angeles or Long Beach, California, port area, inside the Federal breakwaters bounding San Pedro Bay; and

(3) The waters 1000 yards ahead of and within 500 yards of all other sides of a LHG tank vessel, while the vessel is underway on the waters inside the Federal breakwaters, or on the waters extending three nautical miles outward from the Federal breakwaters.

(b) Regulations. (1) In accordance with the general regulations in § 165.33, the following rule applies to the security zones established by this section: No person or vessel may enter or remain in these security zones without the permission of the Captain of the Port Los Angeles-Long Beach, CA.

(2) Nothing in this section shall be construed as relieving the owner or person in charge of any vessel from complying with the rules of the road and safe navigation practice.

(3) The regulations of this section will be enforced by the Captain of the Port Los Angeles-Long Beach, or his authorized representatives.

(c) Dates. This section becomes effective at 7 p.m. PST on January 14, 2002, and will terminate at 11:59 p.m. PDT on June 15, 2002.

Dated: January 14, 2002.
J.M. Holmes,
Captain, U.S. Coast Guard, Captain of the Port, Los Angeles-Long Beach.

[FR Doc. 02-2039 Filed 1-25-02; 8:45 am]

BILLING CODE 4910-15-U